DEPARTMENT OF DEFENSE

Office of the Secretary

[Docket ID: DOD-2009-OS-0055]

Privacy Act of 1974; System of Records

AGENCY: Defense Logistics Agency, DoD.

ACTION: Notice to Amend Two Systems of Records.

SUMMARY: The Defense Logistics Agency is amending two systems of records notices in its existing inventory of record systems subject to the Privacy Act of 1974 (5 U.S.C. 552a), as amended.

DATES: This proposed action will be effective without further notice on May 26, 2009 unless comments are received which result in a contrary determination.

ADDRESSES: Send comments to the Chief Privacy and FOIA Officer, Headquarters, Defense Logistics Agency, ATTN: DGA, 8725 John J. Kingman Road, Suite 1644, Fort Belvoir, VA 22060-6221.

FOR FURTHER INFORMATION CONTACT: Mr. Lewis Oleinick at (703) 767-6194.

SUPPLEMENTARY INFORMATION: The Defense Logistics Agency systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 21, 2009.
Morgan E. Frazier,
Alternate OSD Federal Register Liaison Officer, Department of Defense.

S500.41 CAAS

SYSTEM NAME:

Vehicle/Traffic Incident Files (July 30, 1999, 64 FR 41399).

CHANGES:

SYSTEM IDENTIFIER:

Delete “CAAS” from entry.

* * * * *

SYSTEM LOCATION:

Delete entry and replace with “Public Safety and Security Office, Headquarters, Defense Logistics Agency, 8725 John J. Kingman Road, Suite 3533, Fort Belvoir, VA 22060-6220 and the Public Safety and Security Offices of the DLA field activities. Addresses may be obtained from the System manager.”

* * * * *

SAFEGUARDS:

Delete entry and replace with “Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.”

* * * * *

SYSTEM MANAGER(S) AND ADDRESS:

Delete entry and replace with “Program Manager, Law Enforcement Operations, Headquarters, Defense Logistics Agency, Office of Public Safety, 8725 John J. Kingman Road, Suite 3533, Fort Belvoir, VA 22060-6220, and the Security Managers within the DLA field activity responsible for the operation of security forces and staff at the DLA field activity.”

NOTIFICATION PROCEDURE:

Delete entry and replace with “Individuals seeking to determine whether information about themselves is contained in this system of records should address written inquiries to the Privacy Act Office, Headquarters, Defense Logistics Agency, ATTN: DGA, 8725 John J. Kingman Road, Suite 1644, Fort Belvoir, VA 22060-6221.

Inquiry should contain the individual's full name, date and the location of the incident.”

RECORD ACCESS PROCEDURES:

Delete entry and replace with “Individuals seeking access to information about themselves contained in this system of records should address written inquiries to the Privacy Act Office, Headquarters, Defense Logistics Agency, ATTN: DGA, 8725 John J. Kingman Road, Suite 1644, Fort Belvoir, VA 22060-6221.

Inquiry should contain the individual's full name, date and the location of the incident.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S500.41

SYSTEM NAME:

Vehicle/Traffic Incident Files.

SYSTEM LOCATION:

Public Safety and Security Office, Headquarters, Defense Logistics Agency, 8725 John J. Kingman Road, Suite 3533, Fort Belvoir, VA 22060-6220 and the Public Safety and Security Offices of the DLA field activities. Addresses may be obtained from the System manager.

CATEGORIES OF INDIVIDUALS COVERED BY THE SYSTEM:

Any person involved in a vehicle traffic accident or traffic incident on property controlled by the Defense Logistics Agency (DLA), and individuals involved in traffic incidents while operating or occupying a DLA-controlled vehicle.

CATEGORIES OF RECORDS IN THE SYSTEM:

The file includes name, addresses, Social Security Number (SSN), telephone numbers, vehicle description and data, vehicle license data, operator license data, insurance data, emergency contact and similar data. The file also includes reports, sketches, photographs, medical reports and related papers concerning traffic accident investigation and case disposition, traffic tickets, documents relating to withdrawal of driving privileges, substance influence reports, and reports of corrective or disciplinary action taken.

AUTHORITY FOR MAINTENANCE OF THE SYSTEM:

10 U.S.C. 133, Under Secretary of Defense for Acquisition, Technology, and Logistics; National Highway Safety Act of 1966 (23 U.S.C. 401, Highway Safety, et seq.); and E.O. 9397 (SSN).

PURPOSE(S):

Information is maintained for purposes of accident cause identification and to formulate accident prevention programs for improvement in traffic patterns and for preparation of statistical reports required by higher authority.

Information is used by Security Officers and DLA police to determine actions required to correct the cause of the accident. In cases involving personal injury, to provide verification in processing workmen's compensation cases.

Claims Officers to determine validity of claims against the U.S. Government, when such are filed by a person involved in an accident.

DoD Medical personnel to make medical determinations about individuals involved in accidents.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DOD as a routine use pursuant to 5 U.S.C. 552a(b)(3) as follows:

To medical and emergency personnel to make medical and safety determinations about individuals involved in accidents.

To the Department of Labor, Office of Workers' Compensation for the purpose of processing workers' compensation claims.

The DoD “Blanket Routine Uses” also apply to this system of records.

POLICIES AND PRACTICES FOR STORING, RETRIEVING, ACCESSING, RETAINING, AND DISPOSING OF RECORDS IN THE SYSTEM:

STORAGE:

Records may be stored on paper and/or on electronic storage media.

RETRIEVABILITY:

Records are retrieved by name of person involved, Social Security Number (SSN), ticket or police report number.

SAFEGUARDS:

Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.

RETENTION AND DISPOSAL:

Destroy after 2 years; however, where the possibility for a claim exists, the record will be destroyed after 6 years, 3 months.

SYSTEM MANAGER(S) AND ADDRESS:

Program Manager, Law Enforcement Operations, Headquarters, Defense Logistics Agency, Office of Public Safety, 8725 John J. Kingman Road, Suite 3533, Fort Belvoir, VA 22060-6220, and the Security Managers within the DLA field activity responsible for the operation of security forces and staff at the DLA field activity.

NOTIFICATION PROCEDURE:

Individuals seeking to determine whether information about themselves is contained in this system of records should address written inquiries to the Privacy Act Office, Headquarters, Defense Logistics Agency, ATTN: DGA, 8725 John J. Kingman Road, Suite 1644, Fort Belvoir, VA 22060-6221.

Inquiry should contain the individual's full name, date and the location of the incident.

RECORD ACCESS PROCEDURES:

Individuals seeking access to information about themselves contained in this system of records should address written inquiries to the Privacy Act Office, Headquarters, Defense Logistics Agency, ATTN: DGA, 8725 John J. Kingman Road, Suite 1644, Fort Belvoir, VA 22060-6221.

Inquiry should contain the individual's full name, date and the location of the incident.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

Individuals involved in accidents, traffic offenders, witnesses, security and police force personnel, law enforcement agencies, and medical and emergency personnel.

EXEMPTIONS CLAIMED FOR THE SYSTEM:

None.

S500.42

SYSTEM NAME:

Seizure and Disposition of Property Records (June 8, 1999, 64 FR 30494).

CHANGES:

* * * * *

SYSTEM IDENTIFIER:

Delete “CAAS” from entry.

SYSTEM LOCATION:

Delete entry and replace with “Public Safety and Security Office, Headquarters, Defense Logistics Agency, 8725 John J. Kingman Road, Suite 3533, Fort Belvoir, VA 22060-6220 and the Public Safety and Security Offices of the DLA field activities. Addresses may be obtained from the System manager.”

* * * * *

SAFEGUARDS:

Delete entry and replace with “Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.”

* * * * *

SYSTEM MANAGER(S) AND ADDRESS:

Delete entry and replace with “Program Manager, Law Enforcement Operations, Headquarters, Defense Logistics Agency, Office of Public Safety, 8725 John J. Kingman Road, Suite 3533, Fort Belvoir, VA 22060-6220, and the Security Managers within the DLA field Activity responsible for the operation of security forces and staff at the DLA field activity.”

NOTIFICATION PROCEDURE:

Delete entry and replace with “Individuals seeking to determine whether information about themselves is contained in this system should address written inquiries to the Privacy Act Office, Headquarters, Defense Logistics Agency, ATTN: DGA, 8725 John J. Kingman Road, Suite 1644, Fort Belvoir, VA 22060-6221.

Inquiry should contain the subject individual's full name, Social Security Number (SSN), current address, and telephone numbers.”

RECORD ACCESS PROCEDURES:

Delete entry and replace with “Individuals seeking access to information about themselves contained in this system of records should address written inquiries to the Privacy Act Office, Headquarters, Defense Logistics Agency, ATTN: DGA, 8725 John J. Kingman Road, Suite 1644, Fort Belvoir, VA 22060-6221. Inquiry should contain the subject individual's full name, Social Security Number (SSN), current address, and telephone numbers.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S500.42

SYSTEM NAME:

Seizure and Disposition of Property Records.

SYSTEM LOCATION:

Public Safety and Security Office, Headquarters, Defense Logistics Agency, 8725 John J. Kingman Road, Suite 3533, Fort Belvoir, VA 22060-6220 and the Public Safety and Security Offices of the DLA field activities. Addresses may be obtained from the System manager.

CATEGORIES OF INDIVIDUALS COVERED BY THE SYSTEM:

Any person on property controlled by DLA identified as being in possession of contraband or physical evidence connected with a criminal offense.

CATEGORIES OF RECORDS IN THE SYSTEM:

The file includes name, Social Security Number (SSN), addresses, telephone numbers and data pertaining to the asset. The file also includes documents pertaining to acquisition, storage and disposition of contraband and physical evidence to include receipts, chain of custody documents, release, and disposition or destruction certificates.

AUTHORITY FOR MAINTENANCE OF THE SYSTEM:

Section 21 of the Internal Security Act 1950 (50 U.S.C. 797, et seq.); DOD Instruction 5200.8, Security of DOD Installations and Resources; DOD Directive 5105.22, Defense Logistics Agency; and E.O. 9397 (SSN).

PURPOSE(S):

Information is maintained and used by security and police force personnel to provide accountability for confiscated contraband and acquired physical evidence.

Information is also used to maintain chain of custody on evidence for presentation in court in cases requiring criminal prosecution.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DOD as a routine use pursuant to 5 U.S.C. 552a(b)(3) as follows:

The DoD “Blanket Routine Uses” apply to this system of records.

POLICIES AND PRACTICES FOR STORING, RETRIEVING, ACCESSING, RETAINING, AND DISPOSING OF RECORDS IN THE SYSTEM:

STORAGE:

Records may be stored on paper and/or on electronic storage media.

RETRIEVABILITY:

Retrieved by property log number and last name if person has been identified in the particular case; by incident number if property was found on the premises or recovered from a crime scene.

SAFEGUARDS:

Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.

RETENTION AND DISPOSAL:

Destroy 3 years after final action on or disposition of the property and responsibility therefore has been appropriately terminated.

SYSTEM MANAGER(S) AND ADDRESS:

Program Manager, Law Enforcement Operations, Headquarters, Defense Logistics Agency, Office of Public Safety, 8725 John J. Kingman Road, Suite 3533, Fort Belvoir, VA 22060-6220, and the Security Managers within the DLA field activity responsible for the operation of security forces and staff at the DLA field activity.

NOTIFICATION PROCEDURE:

Individuals seeking to determine whether information about themselves is contained in this system should address written inquiries to the Privacy Act Office, Headquarters, Defense Logistics Agency, ATTN: DGA, 8725 John J. Kingman Road, Suite 1644, Fort Belvoir, VA 22060-6221.

Inquiry should contain the subject individual's full name, Social Security Number (SSN), current address, and telephone numbers.

RECORD ACCESS PROCEDURES:

Individuals seeking access to information about themselves contained in this system of records should address written inquiries to the Privacy Act Office, Headquarters, Defense Logistics Agency, ATTN: DGA, 8725 John J. Kingman Road, Suite 1644, Fort Belvoir, VA 22060-6221.

Inquiry should contain the subject individual's full name, Social Security Number (SSN), current address, and telephone numbers.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

Record subject; security personnel; and Federal, state, and local law enforcement agencies.

EXEMPTIONS CLAIMED FOR THE SYSTEM:

None.

[FR Doc. E9-9391 Filed 4-23-09; 8:45 am]

BILLING CODE 5001-06-P